COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add products and a service to the Procurement List that will be furnished by nonprofit agencies employing persons who are blind or have other severe disabilities, and delete products previously furnished by such agencies.

DATES: Comments Must Be Received On Or Before: 3/12/2017.

ADDRESSES: Committee for Purchase From People Who Are Blind or Severely Disabled, 1401 S. Clark Street, Suite 715, Arlington, Virginia 22202-4149.

FOR FURTHER INFORMATION CONTACT OR TO SUBMIT COMMENTS CONTACT: Amy B. Jensen, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the products and service listed below from the nonprofit agency employing persons who are blind or have other severe disabilities.

The following products and service are proposed for addition to the Procurement List for production by the nonprofit agency listed:

Products

NSN(s)—Product Name(s):

MR 11301—Cooler, Styrofoam, Handled, 12 Qt.

MR 11302—Cooler, Styrofoam, Handled, 22 Qt.

Mandatory for: The requirements of military commissaries and exchanges in accordance with the Code of Federal Regulations, Chapter 51, 51-6.4

Mandatory Source(s) of Supply: Winston Salem Industries for the Blind, Inc., Winston-Salem, NC

Contracting Activity: Defense Commissary Agency

Distribution: C-List

Service

Service Type: Custodial Service

Mandatory for: Consumer Financial Protection Bureau (CFPB), CFPB Headquarter Buildings, 1700 G Street NW., 1990 K Street NW., Washington, DC

Mandatory Source(s) of Supply: Didlake, Inc., Manassas, VA

Contracting Activity: Consumer Financial Protection Bureau

Deletions

The following products are proposed for deletion from the Procurement List:

Products

NSN(s)—Product Name(s):

8415-01-576-0094—Jacket, Wet Weather Level 6, PCU, Army, Men's, Desert Camouflage, XS

8415-01-576-0100—Jacket, Wet Weather Level 6, PCU, Army, Men's, Desert Camouflage, ML

8415-01-576-0104—Jacket, Wet Weather Level 6, PCU, Army, Men's, Desert Camouflage, LR

8415-01-576-0111—Jacket, Wet Weather Level 6, PCU, Army, Men's, Desert Camouflage, LL

8415-01-576-0116—Jacket, Wet Weather Level 6, PCU, Army, Men's, Desert Camouflage, XLR

8415-01-576-0122—Jacket, Wet Weather Level 6, PCU, Army, Men's, Desert Camouflage, XLL

8415-01-576-0152—Jacket, Wet Weather Level 6, PCU, Army, Men's, Desert Camouflage, XXLL

8415-01-576-0157—Jacket, Wet Weather Level 6, PCU, Army, Men's, Desert Camouflage, XXXLR

8415-01-576-0165—Jacket, Wet Weather Level 6, PCU, Army, Men's, Desert Camouflage, XXXLL

8415-01-576-0234—Jacket, Wet Weather Level 6, PCU, Army, Men's, Woodland Camouflage, XS

8415-01-576-0237—Jacket, Wet Weather Level 6, PCU, Army, Men's, Woodland Camouflage, SR

8415-01-576-0238—Jacket, Wet Weather Level 6, PCU, Army, Men's, Woodland Camouflage, MR

8415-01-576-0243—Jacket, Wet Weather Level 6, PCU, Army, Men's, Woodland Camouflage, ML

8415-01-576-1966—Jacket, Wet Weather Level 6, PCU, Army, Men's, Woodland Camouflage, LR

8415-01-576-1967—Jacket, Wet Weather Level 6, PCU, Army, Men's, Woodland Camouflage, LL

8415-01-576-1970—Jacket, Wet Weather Level 6, PCU, Army, Men's, Woodland Camouflage, XL

8415-01-576-1974—Jacket, Wet Weather Level 6, PCU, Army, Men's, Woodland Camouflage, XLL

8415-01-576-1977—Jacket, Wet Weather Level 6, PCU, Army, Men's, Woodland Camouflage, XXL

8415-01-576-1980—Jacket, Wet Weather Level 6, PCU, Army, Men's, Woodland Camouflage, XXLL

8415-01-576-1982—Jacket, Wet Weather Level 6, PCU, Army, Men's, Woodland Camouflage, XXXL

8415-01-576-1985—Jacket, Wet Weather Level 6, PCU, Army, Men's, Woodland Camouflage, XXXLL

8415-01-576-5763—Pants, Wet Weather Level 6, PCU, Army, Desert Camouflage, XS

8415-01-576-5957—Pants, Wet Weather Level 6, PCU, Army, Desert Camouflage, SR

8415-01-576-5962—Pants, Wet Weather Level 6, PCU, Army, Desert Camouflage, MR

8415-01-576-5967—Pants, Wet Weather Level 6, PCU, Army, Desert Camouflage, ML

8415-01-576-7101—Pants, Wet Weather Level 6, PCU, Army, Desert Camouflage, LR

8415-01-576-7169—Pants, Wet Weather Level 6, PCU, Army, Desert Camouflage, LL

8415-01-576-7515—Pants, Wet Weather Level 6, PCU, Army, Desert Camouflage, XL

8415-01-576-7517—Pants, Wet Weather Level 6, PCU, Army, Desert Camouflage, XLL

8415-01-576-7692—Pants, Wet Weather Level 6, PCU, Army, Desert Camouflage, XXL

8415-01-576-7695—Pants, Wet Weather Level 6, PCU, Army, Desert Camouflage, XXLL

8415-01-576-7697—Pants, Wet Weather Level 6, PCU, Army, Desert Camouflage, XXXL

8415-01-576-7714—Pants, Wet Weather Level 6, PCU, Army, Desert Camouflage, XXXLL

8415-01-576-7827—Pants, Wet Weather Level 6, PCU, Army, Woodland Camouflage, XS

8415-01-576-7845—Pants, Wet Weather Level 6, PCU, Army, Woodland Camouflage, SR

8415-01-576-8002—Pants, Wet Weather Level 6, PCU, Army, Woodland Camouflage, MR

8415-01-576-8003—Pants, Wet Weather Level 6, PCU, Army, Woodland Camouflage, ML

8415-01-576-8024—Pants, Wet Weather Level 6, PCU, Army, Woodland Camouflage, LR

8415-01-576-8026—Pants, Wet Weather Level 6, PCU, Army, Woodland Camouflage, LL

8415-01-576-8083—Pants, Wet Weather Level 6, PCU, Army, Woodland Camouflage, XL

8415-01-576-8091—Pants, Wet Weather Level 6, PCU, Army, Woodland Camouflage, XLL

8415-01-576-8101—Pants, Wet Weather Level 6, PCU, Army, Woodland Camouflage, XXL

8415-01-576-8107—Pants, Wet Weather Level 6, PCU, Army, Woodland Camouflage, XXLL

8415-01-576-8109—Pants, Wet Weather Level 6, PCU, Army, Woodland Camouflage, XXXL

8415-01-576-8114—Pants, Wet Weather Level 6, PCU, Army, Woodland Camouflage, XXLLL

NPA: ReadyOne Industries, Inc., El Paso, TX

Contracting Activity: W6QK ACC-APG NATICK

8415-01-543-0375—Trousers, Lightweight ECWCS Level 6, PCU, Army, Green, XS

8415-01-543-0378—Trousers, Lightweight ECWCS Level 6, PCU, Army, Green, S

8415-01-543-0380—Trousers, Lightweight ECWCS Level 6, PCU, Army, Green, M

8415-01-543-0385—Trousers, Lightweight ECWCS Level 6, PCU, Army, Green, L-L

8415-01-543-0389—Trousers, Lightweight ECWCS Level 6, PCU, Army, Green, XL

8415-01-543-0390—Trousers, Lightweight ECWCS Level 6, PCU, Army, Green, XL-L

8415-01-543-0395—Trousers, Lightweight ECWCS Level 6, PCU, Army, Green, XXLL

8415-01-543-0398—Trousers, Lightweight ECWCS Level 6, PCU, Army, Green, XXLL

8415-01-543-0400—Trousers, Lightweight ECWCS Level 6, PCU, Army, Green, XXXL

8415-01-543-0402—Trousers, Lightweight ECWCS Level 6, PCU, Army, Green, XXXLL

8415-01-543-0416—Trousers, Lightweight Level 6, ECWCS, PCU, Army, Green, L

8415-01-543-7004—Trousers, Wet Weather Level 6 ECWCS, PCU, Army, Green, M-L

8415-01-543-0417—Jacket, Parka, Lightweight Extreme Cold Wet Weather Level 6, PCU, Army, Green, XS

8415-01-543-0421—Jacket, Parka, Lightweight Extreme Cold Wet Weather Level 6, PCU, Army, Green, S

8415-01-543-0422—Jacket, Parka, Lightweight Extreme Cold Wet Weather Level 6, PCU, Army, Green, M

8415-01-543-0424—Jacket, Parka, Lightweight Extreme Cold Wet Weather Level 6, PCU, Army, Green, L-L

8415-01-543-0428—Jacket, Parka, Lightweight Extreme Cold Wet Weather Level 6, PCU, Army, Green, L

8415-01-543-0430—Jacket, Parka, Lightweight Extreme Cold Wet Weather Level 6, PCU, Army, Green, XL-L

8415-01-543-0431—Jacket, Parka, Lightweight Extreme Cold Wet Weather Level 6, PCU, Army, Green, XL

8415-01-543-0434—Jacket, Parka, Lightweight Extreme Cold Wet Weather Level 6, PCU, Army, Green, XXLL

8415-01-543-0437—Jacket, Parka, Lightweight Extreme Cold Wet Weather Level 6, PCU, Army, Green, XXL

8415-01-543-0439—Jacket, Parka, Lightweight Extreme Cold Wet Weather Level 6, PCU, Army, Green, XXXL

8415-01-543-0440—Jacket, Parka, Lightweight Extreme Cold Wet Weather Level 6, PCU, Army, Green, XXXLL

8415-01-543-7038—Jacket, Parka, Lightweight Extreme Cold Wet Weather Level 6, PCU, Army, Green, M-L

NPA: ReadyOne Industries, Inc., El Paso, TX

Contracting Activity: W40M NORTHEREGION CONTRACT OFC

Amy B. Jensen,
Director, Business Operations.

[FR Doc. 2017-02806 Filed 2-9-17; 8:45 am]

BILLING CODE 6353-01-P